DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. The purpose of the meeting is to vote on the Committee's Annual Report and to receive briefings and updates relating to the Committee's current work.

DATES: Wednesday, December 4, 2013, from 8:30 a.m. to 5:15 p.m.; Thursday, December 5, 2013, from 8:00 a.m. to 11:30 a.m.

ADDRESSES: Sheraton National Hotel-Pentagon City, 900 South Orme St., Arlington, VA 22204.

FOR FURTHER INFORMATION CONTACT: Mr. Robert Bowling or DACOWITS Staff at 4000 Defense Pentagon, Room 5A734, Washington, DC 20301-4000. Robert.d.bowling1.civ@mail.mil. Telephone (703) 697-2122. Fax (703) 614-6233.

SUPPLEMENTARY INFORMATION:

Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS).

The purpose of the meeting is to vote on the Committee's Annual Report and to receive briefings and updates relating to the Committee's current work. The Committee will receive an update from the Sexual Assault Prevention and Response Office (SAPRO) on the 2013 SAPR Strategic Plan. The Committee will also receive briefings from the Services on their implementation of methods to assess commander's performance on evaluations. Additionally, the Committee will receive a briefing from the National Guard Bureau on same-sex benefits. The Committee will also receive briefings from the Marine Corps on the WISR Implementation/Infantry Training Battalion and the Combat Fitness Test. The Committee will receive a briefing from TRADOC on gender neutral physical standards. Finally, the Committee will present their 2013 Annual Report and 2014 study topics.

Pursuant to 41 CFR 102-3.105(j) and 102-3.140, and section 10(a)(3) of the Federal Advisory Committee Act of 1972, interested persons may submit a written statement for consideration by the Defense Advisory Committee on Women in the Services. Individuals submitting a written statement must submit their statement to the point of contact listed at the address in FOR FURTHER INFORMATION CONTACT no later than 5:00 p.m., Monday, December 2, 2013. If a written statement is not received by Monday, December 2, 2013, prior to the meeting, which is the subject of this notice, then it may not be provided to or considered by the Defense Advisory Committee on Women in the Services until its next open meeting. The Designated Federal Officer will review all timely submissions with the Defense Advisory Committee on Women in the Services Chair and ensure they are provided to the members of the Defense Advisory Committee on Women in the Services. If members of the public are interested in making an oral statement, a written statement should be submitted. After reviewing the written comments, the Chair and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Two minutes will be allotted to persons desiring to make an oral presentation. Oral presentations by members of the public will be permitted only on Wednesday, December 4, 2013 from 4:45 p.m. to 5:15 p.m. in front of the full Committee. The number of oral presentations to be made will depend on the number of requests received from members of the public.

Pursuant to 5 U.S.C. 552b and 41 CFR 102-3.140 through 102-3.165, this meeting is open to the public, subject to the availability of space.

Due to difficulties finalizing the meeting notice for the scheduled meeting of the Defense Advisory Committee on Women in the Services for December 4-5, 2013, the requirements of 41 CFR 102-3.150(a) were not met. Accordingly, the Advisory Committee Management Officer for the Department of Defense, pursuant to 41 CFR § 102-3.150(b), waives the 15-calendar day notification requirement.

Meeting agenda:

Wednesday, December 4, 2013, From 8:30 a.m. to 5:15 p.m.

—Welcome, Introductions, Announcements

—Briefing—Request for Information Update

—Briefing—SAPRO Update

—Briefing—Services Implementation Methods on Evaluation of Commander's Performance

—Briefing—National Guard Same Sex Benefits

—Briefing—WISR Implementation/Marine Corps Infantry Training Battalion

—Briefing—Marine Corps Combat Fitness Test

—Briefing—TRADOC Gender-Neutral Standards Update

—Public Comment Period

Thursday, December 5, 2013, From 8:00 a.m. to 11:30 a.m.

—Announcements

—Committee Presents 2013 Annual Report and 2014 Study Topics

Dated: November 15, 2013.
Aaron Siegel,
Alternate OSD Federal Register Liaison Officer, Department of Defense.

[FR Doc. 2013-27781 Filed 11-19-13; 8:45 am]

BILLING CODE 5001-06-P